DEPARTMENT OF COMMERCE

International Trade Administration

[A-533-863, A-475-832, A-570-026, A-580-878, A-583-856]

Certain Corrosion-Resistant Steel Products From India, Italy, the People's Republic of China, the Republic of Korea and Taiwan: Amended Final Affirmative Antidumping Determination for India and Taiwan, and Antidumping Duty Orders

AGENCY: Enforcement and Compliance, International Trade Administration, Department of Commerce.

SUMMARY: Based on affirmative final determinations by the Department of Commerce (the “Department”) and the International Trade Commission (the “ITC”), the Department is issuing antidumping duty orders on certain corrosion-resistant steel products from India, Italy, the People's Republic of China (“PRC”), the Republic of Korea (“Korea”), and Taiwan. In addition, the Department is amending its final determinations of sales at less-than-fair-value (“LTFV”) from India and Taiwan, as a result of ministerial errors.

DATES: Effective July 25, 2016.

FOR FURTHER INFORMATION CONTACT: Julia Hancock or Susan Pulongbarit at (202) 482-1394 and (202) 482-4031, respectively (Italy), Kabir Archuletta at (202) 482-2593 (India); Elfi Blum or Lingjun Wang (Korea) at (202) 482-0197 or (202) 482-2316, respectively; Nancy Decker or Andrew Huston at (202) 482-0196 or (202) 482-4261, respectively (PRC); or Shanah Lee or Paul Stolz at (202) 482-6386 and (202) 482-4474, respectively (Taiwan), AD/CVD Operations, Enforcement and Compliance, U.S. Department of Commerce, 14th Street and Constitution Avenue NW., Washington, DC 20230.

SUPPLEMENTARY INFORMATION:

Background

In accordance with sections 735(d) and 777(i)(1) of the Tariff Act of 1930, as amended (the “Act”), and 19 CFR 351.210(c), on June 2, 2016, the Department published its affirmative final determinations in the LTFV investigations of certain corrosion-resistant steel products from India, Italy, Korea, the PRC, and Taiwan.¹ On July 15, 2016, the ITC notified the Department of its affirmative determination that an industry in the United States is materially injured within the meaning of section 735(b)(1)(A)(i) of the Act, by reason of the LTFV imports of certain corrosion-resistant steel products from India, Italy, Korea, the PRC, and Taiwan, and its determination that critical circumstances do not exist with respect to imports of subject merchandise from Italy, Korea, the PRC, and Taiwan that are subject to the Department's affirmative critical circumstances findings.²

¹ See Certain Corrosion-Resistant Steel Products from India: Final Determination of Sales at Less Than Fair Value and Final Negative Determination of Critical Circumstances, 81 FR 35329 (June 2, 2016) (“India Final”); Certain Corrosion-Resistant Steel Products from Italy: Final Determination of Sales at Less Than Fair Value and Final Affirmative Determination of Critical Circumstances, in Part, 81 FR 35320 (June 2, 2016) (“Italy Final”); Certain Corrosion-Resistant Steel Products from the Republic of Korea: Final Determination of Sales at Less Than Fair Value and Final Affirmative Determination of Critical Circumstances, 81 FR 35303 (June 2, 2016) (“Korea Final”); Certain Corrosion-Resistant Steel Products from the People's Republic of China: Final Determination of Sales at Less Than Fair Value and Final Affirmative Critical Circumstances Determination, in Part, 81 FR 35316 (June 2, 2016) (“PRC Final”); and Certain Corrosion-Resistant Steel Products from Taiwan: Final Determination of Sales at Less Than Fair Value and Final Affirmative Determination of Critical Circumstances, in Part, 81 FR 35313 (June 2, 2016) (“Taiwan Final”).

² See Letter to Christian Marsh, Deputy Assistant Secretary of Commerce for Enforcement and Compliance, from Irving A. Williamson, Chairman of the U.S. International Trade Commission, regarding certain corrosion-resistant steel products from India, Italy, Korea, the PRC, and Taiwan (July 15, 2016) (“ITC Letter”); see also Corrosion-Resistant Steel Products from India, Italy, Korea, the PRC, and Taiwan, USITC Investigation Nos. 701-TA-534-537 and 731-TA-1274-1278 (Final), USITC Publication 4620 (July 2016).

Scope of the Orders

The products covered by these orders are certain flat-rolled steel products, either clad, plated, or coated with corrosion-resistant metals such as zinc, aluminum, or zinc-, aluminum-, nickel- or iron-based alloys, whether or not corrugated or painted, varnished, laminated, or coated with plastics or other non-metallic substances in addition to the metallic coating. The products covered include coils that have a width of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges). For purposes of the width and thickness requirements referenced above:

(1) Where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of these orders are products in which: (1) Iron predominates, by weight, over each of the other contained elements; (2) the carbon content is 2 percent or less, by weight; and (3) none of the elements listed below exceeds the quantity, by weight, respectively indicated:

• 2.50 percent of manganese, or

• 3.30 percent of silicon, or

• 1.50 percent of copper, or

• 1.50 percent of aluminum, or

• 1.25 percent of chromium, or

• 0.30 percent of cobalt, or

• 0.40 percent of lead, or

• 2.00 percent of nickel, or

• 0.30 percent of tungsten (also called wolfram), or

• 0.80 percent of molybdenum, or

• 0.10 percent of niobium (also called columbium), or

• 0.30 percent of vanadium, or

• 0.30 percent of zirconium

Unless specifically excluded, products are included in this scope regardless of levels of boron and titanium.

For example, specifically included in this scope are vacuum degassed, fully stabilized (commonly referred to as interstitial-free (IF)) steels and high strength low alloy (HSLA) steels. IF steels are recognized as low carbon steels with micro-alloying levels of elements such as titanium and/or niobium added to stabilize carbon and nitrogen elements. HSLA steels are recognized as steels with micro-alloying levels of elements such as chromium, copper, niobium, titanium, vanadium, and molybdenum.

Furthermore, this scope also includes Advanced High Strength Steels (AHSS) and Ultra High Strength Steels (UHSS), both of which are considered high tensile strength and high elongation steels.

Subject merchandise also includes corrosion-resistant steel that has been further processed in a third country, including but not limited to annealing, tempering, painting, varnishing, trimming, cutting, punching and/or slitting or any other processing that would not otherwise remove the merchandise from the scope of the orders if performed in the country of manufacture of the in-scope corrosion resistant steel.

All products that meet the written physical description, and in which the chemistry quantities do not exceed any one of the noted element levels listed above, are within the scope of these orders unless specifically excluded. The following products are outside of and/or specifically excluded from the scope of these orders:

• Flat-rolled steel products either plated or coated with tin, lead, chromium, chromium oxides, both tin and lead (“terne plate”), or both chromium and chromium oxides (“tin free steel”), whether or not painted, varnished or coated with plastics or other non-metallic substances in addition to the metallic coating;

• Clad products in straight lengths of 4.7625 mm or more in composite thickness and of a width which exceeds 150 mm and measures at least twice the thickness; and

• Certain clad stainless flat-rolled products, which are three-layered corrosion-resistant flat-rolled steel products less than 4.75 mm in composite thickness that consist of a flat-rolled steel product clad on both sides with stainless steel in a 20%-60%-20% ratio.

The products subject to the orders are currently classified in the Harmonized Tariff Schedule of the United States (“HTSUS”) under item numbers: 7210.30.0030, 7210.30.0060, 7210.41.0000, 7210.49.0030, 7210.49.0091, 7210.49.0095, 7210.61.0000, 7210.69.0000, 7210.70.6030, 7210.70.6060, 7210.70.6090, 7210.90.6000, 7210.90.9000, 7212.20.0000, 7212.30.1030, 7212.30.1090, 7212.30.3000, 7212.30.5000, 7212.40.1000, 7212.40.5000, 7212.50.0000, and 7212.60.0000.

The products subject to the orders may also enter under the following HTSUS item numbers: 7210.90.1000, 7215.90.1000, 7215.90.3000, 7215.90.5000, 7217.20.1500, 7217.30.1530, 7217.30.1560, 7217.90.1000, 7217.90.5030, 7217.90.5060, 7217.90.5090, 7225.91.0000, 7225.92.0000, 7225.99.0090, 7226.99.0110, 7226.99.0130, 7226.99.0180, 7228.60.6000, 7228.60.8000, and 7229.90.1000.

The HTSUS subheadings above are provided for convenience and customs purposes only. The written description of the scope of the orders is dispositive.

Amendment to India Final Determination

On May 31, 2016, JSW Steel Ltd. and JSW Steel Coated Products Limited (collectively “JSW”) alleged that the Department made ministerial errors in the India Final.³ A ministerial error is defined as an error in addition, subtraction, or other arithmetic function, clerical error resulting from inaccurate copying, duplication, or the like, and any other similar type of unintentional error which the Secretary considers ministerial.⁴

³ See Letter to the Secretary of Commerce from JSW “JSW's Ministerial Error Comments in Response to the Department's Final Determination” (May 31, 2016).

⁴ See section 735(e) of the Act.

The Department reviewed the record and agrees that three of the errors referenced in JSW's allegation constitute ministerial errors within the meaning of 19 CFR 351.224(f).⁵ Specifically, the Department used an incorrect variable in the recalculation of JSW's home market inventory carrying costs, transposed two digits in the recalculation of JSW's indirect selling expenses, and neglected to fully adjust JSW's cash deposit rate for export subsidies based on adverse facts available (“AFA”).⁶ Pursuant to 19 CFR 351.224(e), the Department is amending the India Final to reflect the correction of the ministerial errors described above. Based on our correction, JSW's weighted-average dumping margin decreased from 4.44 percent to 4.43 percent. Although the “all-others” rate is based in part on JSW's dumping margin, the corrections noted above did not have an effect on the all-others rate determined in the India Final.⁷

⁵ See Memorandum to Christian Marsh, Deputy Assistant Secretary for Antidumping and Countervailing Duty Operations “Antidumping Duty Investigation of Certain Corrosion-Resistant Steel Products from India: Allegation of Ministerial Errors in the Final Determination” (July 5, 2016) (“India Ministerial Error Memo”).

⁶ Id.

⁷ Id.

Amendment to Taiwan Final Determination

On June 7, 2016, AK Steel Corporation (“Petitioner”) submitted to the Department a timely allegation that the Department made ministerial errors in the margin calculations in the Taiwan Final.⁸

⁸ See Letter to the Secretary of Commerce from Petitioners “Certain Corrosion-Resistant Steel Products From Taiwan: Petitioner's Ministerial Error Comments” (June 7, 2016).

The Department reviewed the record and agrees that the errors referenced in Petitioner's allegation constitute ministerial errors within the meaning of 19 CFR 351.224(f).⁹ Specifically, as a result of programming errors in the application of partial AFA to certain control numbers, the Department failed to use the sales quantities to weight average the costs of certain control numbers, the Department failed to use the highest total cost of manufacture as AFA for certain control numbers, and the Department incorrectly applied AFA to certain control numbers.¹⁰ Pursuant to 19 CFR 351.224(e), the Department is amending the Taiwan Final to reflect the correction of the ministerial errors described above. Based on our correction, the weighted-average dumping margin for the collapsed entity comprised of Prosperity Tieh Enterprise Company., Ltd., Yieh Phui Enterprise Co., and Synn Industrial Co., Ltd., increased from 3.77 percent to 10.34 percent.¹¹ In addition, because the “all-others” rate is based on the corrected weighted-average dumping margin, the Department has revised the all-others rate in this amended final determination accordingly.¹²

⁹ See Memorandum to Christian Marsh, Deputy Assistant Secretary for Antidumping and Countervailing Duty Operations “Ministerial Error Memorandum Concerning the Final Determination in the Antidumping Duty Investigation of Certain Corrosion-Resistant Steel Products from Taiwan” (July 15, 2016).

¹⁰ Id.

¹¹ Id.

¹² See the “Estimated Weighted-Average Dumping Margins” section below.

Antidumping Duty Orders

As stated above, on July 15, 2016, in accordance with sections 735(b)(1)(A)(i) and 735(d) of the Act, the ITC notified the Department of its final determinations in these investigations, in which it found that an industry in the United States is materially injured by reason of imports of certain corrosion-resistant steel products from India, Italy, Korea, the PRC, and Taiwan and that critical circumstances do not exist with respect to imports of subject merchandise from Italy, Korea, the PRC, and Taiwan that are subject to the Department's affirmative critical circumstances findings.¹³ Therefore, in accordance with section 735(c)(2) of the Act, the Department is issuing these antidumping duty orders. Because the ITC determined that imports of certain corrosion-resistant steel products from India, Italy, Korea, the PRC, and Taiwan are materially injuring a U.S. industry, unliquidated entries of such merchandise from India, Italy, Korea, the PRC, and Taiwan, entered or withdrawn from warehouse for consumption, are subject to the assessment of antidumping duties.

¹³ See ITC Letter.

Therefore, in accordance with section 736(a)(1) of the Act, the Department will direct U.S. Customs and Border Protection (“CBP”) to assess, upon further instruction by the Department, antidumping duties equal to the amount by which the normal value of the merchandise exceeds the export price (or constructed export price) of the merchandise, for all relevant entries of certain corrosion-resistant steel products from India, Italy, Korea, the PRC, and Taiwan. Antidumping duties will be assessed on unliquidated entries of certain corrosion-resistant steel products from India, Italy, Korea, the PRC, and Taiwan entered, or withdrawn from warehouse, for consumption on or after January 4, 2016, the date of publication of the preliminary determinations,¹⁴ but will not include entries occurring after the expiration of the provisional measures period and before publication of the ITC's final injury determination as further described below.

¹⁴ See Certain Corrosion-Resistant Steel Products from India: Affirmative Preliminary Determination of Sales at Less Than Fair Value and Postponement of Final Determination, 81 FR 63 (January 4, 2016) (“India Prelim”); Certain Corrosion-Resistant Steel Products from Italy: Preliminary Affirmative Determination of Sales at Less Than Fair Value and Postponement of Final Determination, 81 FR 69 (January 4, 2016) (“Italy Prelim”); Certain Corrosion-Resistant Steel Products from the Republic of Korea: Affirmative Preliminary Determination of Sales at Less Than Fair Value and Postponement of Final Determination, 81 FR 78 (January 4, 2016) (“Korea Prelim”); Certain Corrosion-Resistant Steel Products from the People's Republic of China: Affirmative Preliminary Determination of Sales at Less Than Fair Value and Postponement of Final Determination, 81 FR 75 (January 4, 2016) (“PRC Prelim”); and Certain Corrosion-Resistant Steel Products from Taiwan: Negative Preliminary Determination of Sales at Less Than Fair Value, 81 FR 72 (January 4, 2016) (“Taiwan Prelim”).

Suspension of Liquidation

In accordance with section 735(c)(1)(B) of the Act, the Department will instruct CBP to continue to suspend liquidation on all relevant entries of certain corrosion-resistant steel products from India, Italy, Korea, the PRC, and Taiwan. These instructions suspending liquidation will remain in effect until further notice.

The Department will also instruct CBP to require cash deposits equal to the amounts as indicated below, which are adjusted for certain countervailable subsidies, where appropriate, as described below. Accordingly, effective on the date of publication of the ITC's final affirmative injury determinations, CBP will require, at the same time as importers would normally deposit estimated duties on this subject merchandise, a cash deposit equal to the cash deposit rates listed below.¹⁵ The relevant all-others rates apply to all producers or exporters not specifically listed. For the purpose of determining cash deposit rates, the estimated weighted-average dumping margins for imports of subject merchandise from India, Italy, Korea, and the PRC have been adjusted, as appropriate, for export subsidies found in the final determinations of the companion countervailing duty investigations of this merchandise imported from India, Italy, Korea, and the PRC.¹⁶ Because the Department determined that countervailable subsidies were not provided to producers and exporters of certain corrosion-resistant steel products from Taiwan, we did not adjust the weighted-average dumping margin for export subsidies.¹⁷ In the case of determining cash deposit rates for subject merchandise from the PRC, estimated weighted-average dumping margins were also adjusted, where appropriate, for estimated domestic subsidy pass-through.¹⁸

¹⁵ See section 736(a)(3) of the Act.

¹⁶ See India Final; Italy Final; Korea Final; and PRC Final. See also section 772(c)(1)(C) of the Act.

¹⁷ See Countervailing Duty Investigation of Certain Corrosion-Resistant Steel Products From Taiwan: Final Negative Countervailing Duty Determination, 81 FR 35299 (June 2, 2016).

¹⁸ See China Final, 81 FR at 35318. See also section 777A(f) of the Act.

Provisional Measures

Section 733(d) of the Act states that instructions issued pursuant to an affirmative preliminary determination may not remain in effect for more than four months, except where exporters representing a significant proportion of exports of the subject merchandise request the Department to extend that four-month period to no more than six months. At the request of exporters that account for a significant proportion of certain corrosion-resistant steel products from India, Italy, Korea, the PRC, and Taiwan, the Department extended the four-month period to six months in each case.¹⁹ In the underlying investigations, the Department published the preliminary determinations on January 4, 2016. Therefore, the extended period, beginning on the date of publication of the preliminary determination, ended on July 2, 2016. Furthermore, section 737(b) of the Act states that definitive duties are to begin on the date of publication of the ITC's final injury determination.

¹⁹ See India Prelim; Italy Prelim; Korea Prelim; PRC Prelim; and Taiwan Prelim.

Therefore, in accordance with section 733(d) of the Act and our practice, the Department will instruct CBP to terminate the suspension of liquidation and to liquidate, without regard to antidumping duties, unliquidated entries of certain corrosion-resistant steel products from India, Italy, Korea, the PRC, and Taiwan entered, or withdrawn from warehouse, for consumption after July 3, 2016, the date on which the provisional measures expired, until and through the day preceding the date of publication of the ITC's final injury determinations in the Federal Register. Suspension of liquidation will resume on the date of publication of the ITC's final determination in the Federal Register.

Critical Circumstances

With regard to the ITC's negative critical circumstances determination on imports of subject merchandise from Korea, the PRC, and Taiwan, the Department will instruct CBP to lift suspension and to refund any cash deposits made to secure the payment of estimated antidumping duties with respect to entries of subject merchandise entered, or withdrawn from warehouse, for consumption on or after October 6, 2015 (i.e., 90 days prior to the date of publication of the preliminary determinations), but before January 4, 2016, (i.e., the date of publication of the preliminary determinations). With regard to the ITC's negative critical circumstances determination on imports of subject merchandise from Italy, the Department will instruct CBP to lift suspension and to refund any cash deposits made to secure payment of estimated antidumping duties with respect to entries of subject merchandise entered, or withdrawn from warehouse, for consumption by one respondent on or after March 4, 2016 (i.e., 90 days prior to the date of publication of the final determination for Italy), but before June 2, 2016, (i.e., the date of publication of the final determination for Italy).²⁰

²⁰ In the Italy Final, the Department found that critical circumstances existed for Marcegaglia S.p.A. Because we calculated a de minimis preliminary dumping margin for Marcegaglia S.p.A., we did not instruct CBP to collect cash deposits until 90 days before the Italy Final.

Estimated Weighted-Average Dumping Margins

The weighted-average antidumping duty margin percentages and cash deposit rates are as follows:

Exporter or producer | Weighted-average dumping margin (percent) ²¹ | Cash deposit rate (percent)
India:
JSW: ²² JSW Steel Ltd JSW Coated Products Ltd | 4.43 | 0.00
Uttam Galva: ²³ Uttam Galva Steel Limited Uttam Value Steels Limited Atlantis International Services Company Ltd Uttam Galva Steels, Netherlands, B.V Uttam Galva Steels (BVI) Limited | 3.05 | 0.00
All-Others | 3.86 | 0.00
Italy:
Acciaieria Arvedi S.p.A | 12.63 | 12.63
Marcegalia S.p.A ²⁴ | 92.12 | 92.12
All-Others | 12.63 | 12.48
Korea:
Dongkuk Steel Mill Co., Ltd./Union Steel Manufacturing Co., Ltd | 8.75 | 8.75
Hyundai Steel Company | 47.80 | 47.79
All-Others | 28.28 | 28.27
PRC:
Yieh Phui (China) Technomaterial Co., Ltd | 209.97 | 199.43
Jiangyin Zongcheng Steel Co. Ltd | 209.97 | 199.43
Union Steel China | 209.97 | 199.43
PRC-Wide Entity | 209.97 | 199.43
Taiwan:
Prosperity Tieh Enterprise Co., Ltd., Yieh Phui Enterprise Co., Ltd., and Synn Industrial Co., Ltd ²⁵ | 10.34
All-Others | 10.34

This notice constitutes the antidumping duty orders with respect to certain corrosion-resistant steel products from India, Italy, the PRC, Korea and Taiwan pursuant to section 736(a) of the Act. Interested parties can find a list of antidumping duty orders currently in effect at http://enforcement.trade.gov/stats/iastats1.html.

²¹ See India Ministerial Error Memo for a complete discussion regarding the change to JSW's weighted-average dumping margin and cash deposit rate.

²² The Department found JSW Steel Ltd. and JSW Coated Products Limited to be affiliated and treated them as a single entity. JSW's cash deposit rate was reduced as a result of correction of the ministerial errors described above. See India Final, 81 FR at 35330.

²³ The Department found Uttam Galva Steels Limited, Uttam Value Steels Limited, Atlantis International Services Company Ltd., Uttam Galva Steels, Netherlands, B.V., and Uttam Galva Steels (BVI) Limited to be affiliated and treated them as a single entity. See India Final, 81 FR at 35330.

²⁴ The Department found that Marcegaglia S.p.A.'s weighted-average dumping margin and cash deposit rate should also be applied to Marcegaglia Carbon Steel. See Italy Final and accompanying Issues and Decision Memorandum at Comment 2.

²⁵ The Department found Yieh Phui Enterprise Co., Ltd., Synn Industrial Co., Ltd., and Prosperity Tieh Enterprise Co., Ltd., to be affiliated and treated them as a single entity. See Taiwan Final, 81 FR at 35314.

These orders are published in accordance with section 736(a) of the Act and 19 CFR 351.211(b).

Dated: July 18, 2016.
Paul Piquado,
Assistant Secretary for Enforcement and Compliance.

[FR Doc. 2016-17557 Filed 7-22-16; 8:45 am]

BILLING CODE 3510-DS-P